DEPARTMENT OF COMMERCE

National Oceanic and Atmospheric Administration

RIN 0648-XD748-X

Marine Mammals; File No. 19133

AGENCY: National Marine Fisheries Service (NMFS), National Oceanic and Atmospheric Administration (NOAA), Commerce.

ACTION: Notice; receipt of application.

SUMMARY: Notice is hereby given that Tim Gallagher, Alaska Area Manager, HDR, Inc., 2525 C Street, Suite 305, Anchorage, AK 99503-2632, has applied in due form for a permit to conduct research on spotted seals (Phoca largha), ringed seals (Pusa hispida), bearded seals (Erignathus barbatus), bowhead whales (Balaena mysticetus), and Beluga whales (Delphinapteras leucas).

DATES: Written, telefaxed, or email comments must be received on or before April 20, 2015.

ADDRESSES: The application and related documents are available for review by selecting “Records Open for Public Comment” from the “Features” box on the Applications and Permits for Protected Species (APPS) home page, https://apps.nmfs.noaa.gov, and then selecting File No. 19133 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Brendan Hurley or Courtney Smith, (301) 427-8401.

SUPPLEMENTARY INFORMATION: The subject permit is requested under the authority of the Marine Mammal Protection Act of 1972, as amended (MMPA; 16 U.S.C. 1361 et seq.), the regulations governing the taking and importing of marine mammals (50 CFR part 216), and the Endangered Species Act of 1973, as amended (ESA; 16 U.S.C. 1531 et seq.), the regulations governing the taking, importing, and exporting of endangered and threatened species (50 CFR parts 222-226).

The area encompassing the Colville River Delta (CRD) on Alaska's North Slope is currently being assessed for potential oil and gas (O&G) exploration and development. HDR proposes to conduct semi-annual aerial surveys over the next 5 years to better characterize the occurrence and distribution of three ice seal species (spotted seals (Phoca largha), ringed seals (Pusa hispida), and bearded seals (Erignathus barbatus)), and provide a framework for understanding the potential impacts of O&G exploration and development on these animals in and around the CRD. Surveys will occur four times annually (from a Cessna 180 high-mounted fixed-wing or a twin engine, low-mounted fixed-wing DA 42 Multi-Purpose Platform (MPP) aircraft (or similar fixed-wing aircraft)) at 1,000 feet, but researchers will drop to an altitude of 700 feet when seals are observed. Annual estimated directed takes include up to 780 bearded seals, 780 ringed seals, 612 spotted seals, and up to 60 bowhead whales (Balaena mysticetus) and 150 Beluga whales (Delphinapteras leucas).

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 13, 2015.
Julia Harrison,
Chief, Permits and Conservation Division, Office of Protected Resources, National Marine Fisheries Service.

[FR Doc. 2015-06387 Filed 3-19-15; 8:45 am]

BILLING CODE 3510-22-P